DEPARTMENT OF VETERANS AFFAIRS

Privacy Act of 1974; System of Records

AGENCY: Department of Veterans Affairs (VA).

ACTION: Notice of establishment of new system of records.

SUMMARY: The Privacy Act of 1974 (5 U.S.C. 552(e) (4)) requires that all agencies publish in the Federal Register a notice of the existence and character of their systems of records. Notice is hereby given that the Department of Veterans Affairs (VA) is establishing a new system of records entitled “Employee Incentive Scholarship Program—VA” (110VA10).

DATES: Comments on the establishment of this system of records must be received no later than December 2, 2002. If no public comment is received, the new system will become effective December 2, 2002.

ADDRESSES: You may mail or hand-deliver written comments concerning the proposed new system of records to the Office of Regulations Management (02D), Department of Veterans Affairs, 810 Vermont Avenue, NW., Washington, DC 20420; or fax comments to (202) 273-9289; or email comments to OGCRegulations@mail.va.gov. All relevant material received before December 2, 2002 will be considered. Comments will be available for public inspection at the above address in the Office of Regulations Management, Room 1158, between the hours of 8 a.m. and 4:30 p.m., Monday through Friday (except holidays).

FOR FURTHER INFORMATION CONTACT: Veterans Health Administration (VHA) Privacy Act Officer, Department of Veterans Affairs, 810 Vermont Avenue, NW., Washington, DC 20420, telephone (727) 320-1839.

SUPPLEMENTARY INFORMATION:

I. Description of Proposed System of Records

The Employee Incentive Scholarship Program (EISP) allows VA to award scholarships to employees pursuing degrees or training leading to appointment or retention in the following health professions: physician, dentist, podiatrist, pharmacist, licensed practical/vocational nurse, expanded-function dental auxiliary, registered nurse, certified registered nurse anesthetist, physician assistant, optometrist, physical therapist, occupational therapist, certified respiratory therapy technician, and registered respiratory therapist. The purpose of the program is to help VA meet its needs for qualified healthcare staff.

The Employee Incentive Scholarship Program—VA (110VA10) system of records contains personal identification information related to the application material, to award processes, to employment status, and to obligated service such as name, address, Social Security number, employing facility name, job title, grade, education level, degree sought, award amounts, obligated service incurred, and name and address of the educational institution. It also contains individual information about applicants who have been denied scholarships, program participants who have been terminated from VA employment, program participants who have breached their program contracts and any amount of indebtedness arising from a scholarship and owed back to VA. Additionally, it may contain information about why an applicant declined to accept a scholarship if the applicant furnished such information. Since applicants typically are denied scholarships because they do not meet the eligibility requirements to participate in the program, the specific nature of an applicant's ineligibility would be another element of information contained in the system of records. Scholarship recipients may request that a payment or service obligation be waived or suspended if circumstances beyond their control make it impossible to comply with the terms and conditions of the educational assistance program. The system of records would include information about the specific nature of the request and the related decision.

Any information in this system may be used by local VA supervisory officials and program coordinators to ensure that individual data in the system of records is accurate and up to date and that award recipients are in compliance with the terms of the scholarship program contract. Data about individual award recipients may change (e.g., adjustments to academic course load) and could impact certain terms of their scholarships such as the amounts of the awards and/or the beginning and ending dates of their periods of obligated service. Data changes may also impact assessments of the effectiveness of the scholarship program. Accordingly, local supervisory officials and program coordinators must periodically review individual data in the system of records to ensure its accuracy.

The information in this system of records is maintained in electronic and hard copy format and is periodically updated through recurring reports, provided by local VA facilities, about the progress of their program participants. This information is necessary to effectively administer the scholarship program. It is used to determine and document individual applicants' initial eligibility for scholarship awards, calculate the service commitments for scholarship recipients, ensure program financial accountability which means that award amounts are consistent with applicable law, regulations and policy, monitor individual applicant educational progress, monitor the employment status of scholarship recipients during their periods of obligated service, and evaluate and report program results and effectiveness. The information would be used to determine the financial liability of individuals who breach their EISP contracts.

II. Proposed Routine Use Disclosures of Data in the System

We are proposing to establish the following routine use disclosures of information which will be maintained in the system:

• Any information in this system that is necessary to verify accuracy and completeness of the application information may be disclosed to educational institutions and other relevant organizations or individuals.

Employees must meet certain requirements to be eligible to participate in the scholarship program. For example, the applicants must have been formally accepted to or enrolled in authorized education or training programs as of the date that they submit their official applications for scholarship awards. Some schools may offer students who do not meet all of the requirements for formal (unconditional) acceptances into their academic programs (typically, Grade Point Average (GPA) or standardized test scores that are below established cutoff points), conditional acceptances. These students may be granted formal or unconditional acceptances once they meet certain requirements such as completing specified coursework and earning a minimum GPA. Students who have been conditionally or informally accepted into an academic program are not eligible to participate in the EISP. VA may need to disclose applicant information in order to verify that candidates for scholarship awards meet applicable program requirements.

• Any information in this system may be disclosed to a Federal agency in order to determine if an applicant has an obligation for service under another Federal program, thus rendering the applicant ineligible for a VA Employee Incentive Scholarship Program Award.

Scholarship program participants are required to serve a period of obligated service after completing their VA-sponsored courses of education or training. Employees are ineligible to receive scholarships if their VA periods of obligated service conflict with obligations to perform service under any other Federal educational program(s). VA may need to disclose applicant information to other Federal agencies to verify that employees do not have obligations to perform service that would render them ineligible to participate in the scholarship program.

• Any information in the system may be used to evaluate and report program results and effectiveness to appropriate officials including members of Congress on a routine and ad hoc basis.

The purpose of the scholarship program is to assist in meeting the staffing needs of VHA for health professional occupations for which recruitment or retention of qualified personnel is difficult. Top-level VA officials and Congress must have access to information from the system to assess how effectively the program accomplishes its purpose and to support decisions to continue, to modify or curtail its use.

• The record of an individual who is covered by this system may be disclosed to a member of Congress or staff person acting for the member when the member or staff person requests the record on behalf of and at the request of that individual.

Individuals sometimes request the help of a member of Congress in resolving some issues relating to a matter before VA. The member of Congress then writes VA, and VA must be able to give sufficient information to be responsive to the inquiry.

• Disclosure of information may be made to the National Archives and Record Administration (NARA) in records management inspections conducted under authority of Title 44 United States Code.

NARA is responsible for archiving old records no longer actively used but which may be appropriate for preservation; they are responsible in general for the physical maintenance of the Federal government's records. VA must be able to turn records over to this agency in order to determine the proper disposition of such records.

• Disclosure of information to the Federal Labor Relations Authority (FLRA) (including its General Counsel) when requested in connection with the investigation and resolution of allegations of unfair labor practices, in connection with the resolution of exceptions to arbitrator awards when a question of material fact is raised, in connection with matters before the Federal Service Impasses Panel, and to investigate representation petitions and conduct or supervise representation elections.

The release of information to FLRA from this Privacy Act system of records is necessary to comply with the statutory mandate under which FLRA operates.

• Disclosure may be made to officials of labor organizations recognized under 5 U.S.C. chapter 71 when relevant and necessary to their duties of exclusive representation concerning personnel policies, practices, and matters affecting working conditions.

• Disclosure may be made to the VA-appointed representative of an employee, including all notices, determinations, decisions, or other written communications issued to the employee in connection with an examination ordered by VA under medical evaluation (formerly fitness-for-duty) examination procedures or Department-filed disability retirement procedures.

• Disclosure may be made to officials of the Merit Systems Protection Board, including the Office of the Special Counsel, when requested in connection with appeals, special studies of the civil service and other merit systems, review of rules and regulations, investigation of alleged or possible prohibited personnel practices, and such other functions, promulgated in 5 U.S.C. 1205 and 1206, or as may be authorized by law.

• Disclosure may be made to the Equal Employment Opportunity Commission when requested in connection with investigations of alleged or possible discrimination practices, examination of Federal affirmative employment programs, compliance with the Uniform Guidelines of Employee Selection Procedures, or other functions vested in the Commission by the President's Reorganization Plan No. 1 of 1978.

III. Compatibility of the Proposed Routine Uses

The Privacy Act permits VA to disclose information about individuals without their consent for a routine use when the information will be used for a purpose that is compatible with the purpose for which we collected the information. In all of the routine use disclosures described above, either the recipient of the information will use the information in connection with a matter relating to one of VA's programs, will use the information to provide a benefit to VA, or disclosure is required by law.

The notice of intent to publish and an advance copy of the system notice have been sent to the appropriate Congressional committees and to the Director of the Office of Management and Budget (OMB) as required by 5 U.S.C. 552a(r) (Privacy Act) and guidelines issued by OMB (65 FR 77677), December 12, 2000.

Approved: October 21, 2002.
Anthony J. Principi,
Secretary of Veterans Affairs.

110VA10

SYSTEM NAME:

Employee Incentive Scholarship Program (EISP)-VA.

SYSTEM LOCATION:

Active records will be maintained at the Health Care Staff Development and Retention Office (HCSDRO/10A2D), Veterans Health Administration (VHA), Department of Veterans Affairs (VA), 1555 Poydras Street, Suite 1971, New Orleans, Louisiana 70112; the Austin Automation Center (AAC), Department of Veterans Affairs, 1615 East Woodward Street, Austin, Texas 78772; and the VA healthcare facilities and VISN offices where scholarship recipients are employed. Address locations for VA healthcare facilities are listed in VA Appendix 1 of the Biennial Publication of Privacy Act Issuances. Complete records will be maintained only at the HCSDRO address.

CATEGORIES OF INDIVIDUALS COVERED BY THE SYSTEM:

VA employees who apply for and are denied or granted educational assistance awards under the provisions of the VA Employee Incentive Scholarship Program (EISP) in a field leading to appointment or retention in a position listed in 38 U.S.C., Section 7401.

CATEGORIES OF RECORDS IN THE SYSTEM:

Records (or information contained in records) in this system may include personal identification information related to the application material, to award processes, to employment, to obligated service, and to requests for waivers or suspensions of obligated service or financial indebtedness to VA such as (1) name, (2) employing facility number, (3) telephone number(s), (4) Social Security number, (5) award amount, (6) obligated service incurred, and (7) name and address of the educational institution; or any amount of indebtedness (accounts receivable) arising from the scholarship and owed to VA. The application for an EISP award includes the applicant's full name, employing facility number, home and work telephone numbers, Social Security number, job title, current education level, degree sought, description of the academic program covered by the scholarship, the starting and completion dates of the employee's academic program, the name and address of the academic institution, the number of credits in the student's academic program plan and the cost of the education covered by the academic program plan. Records may include memoranda submitted by the employees, calculations for the service obligations, copies of letters and/or memoranda from employees making the requests and in correspondence to employees and appropriate local program officials delineating the decisions on such requests.

AUTHORITY FOR MAINTENANCE OF THE SYSTEM:

Title 38, U.S.C., Sections 501, 503, 7451, 7452, and 7431-7440.

Purpose(s):

The records and information may be used for determining and documenting individual applicant eligibility for scholarship awards, calculating the service commitments for scholarship recipients, ensuring program financial accountability, monitoring individual applicant educational progress, monitoring the employment status of scholarship recipients during their periods of obligated service, terminating the employee from the program, and evaluating and reporting program results and effectiveness. The information would be used to determine the financial liability of individuals who breach their EISP contracts.

ROUTINE USES OF RECORDS MAINTAINED IN THE SYSTEM, INCLUDING CATEGORIES OF USERS AND THE PURPOSES OF SUCH USES:

1. Disclosure of any information in this system that is necessary to verify authenticity and completeness of the application may be made to educational institutions and other relevant organizations or individuals.

2. Disclosure of any information in this system may be made to a Federal agency in order to determine if an applicant has an obligation for service under another Federal program, thus rendering the applicant ineligible for a VA Employee Incentive Scholarship Program Award.

3. Disclosure of any information in this system may be made to the local supervisory officials and program coordinators to ensure that individual data in the system of records is up to date and that award recipients are in compliance with the terms of the scholarship program contract.

4. Any information in the system may be used to evaluate and report program results and effectiveness to appropriate officials including members of Congress on a routine and ad hoc basis.

5. Disclosure of information in this system may be made to a member of Congress or staff person acting for the member when the member or staff person requests the records on behalf of and at the request of that individual.

6. Disclosure of information may be made to the National Archives and Record Administration (NARA) in records management inspections conducted under authority of Title 44, United States Code.

7. Disclosure of information to the FLRA (including its General Counsel) when requested in connection with the investigation and resolution of allegations of unfair labor practices, in connection with the resolution of exceptions to arbitrator awards when a question of material fact is raised, in connection with matters before the Federal Service Impasses Panel, and to investigate representation petitions and conduct or supervise representation elections.

8. Disclosure may be made to officials of labor organizations recognized under 5 U.S.C. chapter 71 when relevant and necessary to their duties of exclusive representation concerning personnel policies, practices, and matters affecting working conditions.

9. Disclosure may be made to officials of the Merit Systems Protection Board, including the Office of the Special Counsel, when requested in connection with appeals, special studies of the civil service and other merit systems, review of rules and regulations, investigation of alleged or possible prohibited personnel practices, and such other functions, promulgated in 5 U.S.C. 1205 and 1206, or as may be authorized by law.

10. Disclosure may be made to the Equal Employment Opportunity Commission when requested in connection with investigations of alleged or possible discrimination practices, examination of Federal affirmative employment programs, compliance with the Uniform Guidelines of Employee Selection Procedures, or other functions vested in the Commission by the President's Reorganization Plan No. 1 of 1978.

Disclosure to consumer reporting agencies:

Pursuant to 5 U.S.C. 552a(b)(12), VA may disclose records from this system to consumer reporting agencies as defined in the Fair Credit Reporting Act (15 U.S.C. 1681a(f)) or the Federal Claims Collection Act of 1966 (31 U.S.C. 3701(a)(3)).

Policies and practices for storing, retrieving, accessing, retaining, and disposing of records in the system:

Storage:

Records are maintained on paper, electronic media and computer printouts.

Retrievability:

Records are retrieved by use of the award number or an equivalent participant account number assigned by HCSDRO, social security number and the name of the individual.

Safeguards:

Access to the basic file in HCSDRO is restricted to authorized VA employees and vendors. Access to the office spaces where electronic media is maintained within HCSDRO is further restricted to specifically authorized employees and is protected by contracted building security services. Records (typically computer printouts) at HCSDRO will be kept in locked files and made available only to authorized personnel on a need-to-know basis. During non-working hours the file is locked and the building is protected by contracted building security services. Records stored on electronic media are maintained on a VA-approved and managed, password-protected, secure local area network (LAN) located within HCSDRO office spaces and safeguarded as described above. Records stored on electronic media at Veterans Integrated Service Network (VISN) Offices, VA healthcare facilities, and the AAC in Austin, Texas are provided equivalent safeguards subject to local policies mandating protection of information subject to federal safeguards.

Retention and disposal:

Records will be maintained and disposed of in accordance with records disposition authority approved by the Archivist of the United States.

System manager(s) and address:

Director, Health Care Staff Development and Retention Office (10A2D), Veterans Health Administration, Department of Veterans Affairs, 1555 Poydras Street, Suite 1971, New Orleans, Louisiana 70112.

Notification procedure:

Any individual who wishes to determine whether a record is being maintained in this system under his or her name or other personal identifier, or wants to determine the contents of such records, should submit a written request or apply in person to the Director, Health Care Staff Development and Retention Office, Veterans Health Administration, Department of Veterans Affairs, 1555 Poydras Street, Suite 1971, New Orleans, Louisiana 70112.

Record access procedures:

Individuals seeking information regarding access to and contesting of VA records in this system may write, call or visit the Director, Health Care Staff Development and Retention Office (10A2D), Veterans Health Administration, Department of Veterans Affairs, 1555 Poydras Street, Suite 1971, New Orleans, Louisiana 70112. The telephone number is (504) 589-5267.

Contesting record procedures:

(See Records Access Procedures above.)

Record source categories:

Information contained in the records is obtained from the individual, references given in application material, educational institutions, VA medical facilities, the VA AAC, other Federal agencies, State agencies and consumer reporting agencies.

[FR Doc. 02-27876 Filed 10-31-02; 8:45 am]

BILLING CODE 8320-01-P